ENVIRONMENTAL PROTECTION AGENCY

[FRL-9911-39-OA]

Notification of a Public Teleconference of the Clean Air Scientific Advisory Committee Augmented Sulfur Oxides Primary NAAQS Review Panel

AGENCY: Environmental Protection Agency (EPA).

ACTION: Notice.

SUMMARY: The Environmental Protection Agency (EPA) Science Advisory Board (SAB) Staff Office announces a public teleconference of the Clean Air Scientific Advisory Committee (CASAC) Augmented Sulfur Oxides Primary National Ambient Air Quality Standards (NAAQS) Review Panel to discuss its draft review of EPA's Integrated Review Plan for the Primary National Ambient Air Quality Standard for Sulfur Dioxide (External Review Draft).

DATES: The CASAC will hold a teleconference on Wednesday, June 11, 2014, from 1:00 p.m. to 4:00 p.m. (Eastern Time).

ADDRESSES: The CASAC public teleconference will take place via telephone only.

FOR FURTHER INFORMATION CONTACT: Any member of the public who wants further information concerning the CASAC's public teleconference may contact Dr. Diana Wong, Designated Federal Officer (DFO) via telephone at (202) 564-2049 or email at wong.diana-M@epa.gov. General information concerning the CASAC can be found on the EPA Web site at http://www.epa.gov/casac.

SUPPLEMENTARY INFORMATION: The CASAC was established pursuant to the Clean Air Act (CAA) Amendments of 1977, codified at 42 U.S.C. 7409D(d)(2), to review air quality criteria and NAAQS and recommend any new NAAQS and revisions of existing criteria and NAAQS as may be appropriate. The CASAC shall also provide advice, information, and recommendations to the Administrator on the scientific and technical aspects of issues related to the criteria for air quality standards, research related to air quality, sources of air pollution, and of adverse effects which may result from various strategies to attain and maintain air quality standards. The CASAC is a Federal Advisory Committee chartered under the Federal Advisory Committee Act (FACA), 5 U.S.C., App. 2. Section 109(d)(1) of the CAA requires that the Agency periodically review and revise, as appropriate, the air quality criteria and the NAAQS for the six “criteria” air pollutants, including oxides of sulfur. EPA is currently reviewing the primary (health-based) NAAQS for sulfur dioxide (SO2), as an indicator for health effects caused by the presence of oxides of sulfur in the ambient air and has requested CASAC advice.

For purposes of the review of the sulfur oxides air quality criteria for health and the primary NAAQS for sulfur dioxide, the CASAC Augmented Sulfur Oxides Review Panel was formed following a request for public nominations of experts (78 FR 43880—43881, July 22, 2013), and held a public teleconference on April 22, 2014 (as noticed in 79 FR 16325-16326) to peer review EPA's Integrated Review Plan for the Primary National Ambient Air Quality Standard for Sulfur Dioxide (External Review Draft- March 2014). Information about this review activity may be found on the CASAC Web site at http://yosemite.epa.gov/sab/sabproduct.nsf/fedrgstr_activites/SO_2%20Primary%20NAAQS%20Review?OpenDocument.

Pursuant to FACA and EPA policy, notice is hereby given that the CASAC Augmented Sulfur Oxides Primary NAAQS Review Panel will hold a public teleconference to discuss CASAC's draft review of this EPA document. The CASAC Augmented Sulfur Oxides Review Panel will comply with the provisions of FACA and all appropriate SAB Staff Office procedural policies.

Technical Contacts: Any technical questions concerning the Integrated Review Plan for the Primary National Ambient Air Quality Standard for Sulfur Dioxide (External Review Draft—March 2014) should be directed to Dr. Michael Stewart (stewart.michael@epa.gov).

Availability of Meeting Materials: Prior to the teleconference, the CASAC draft report, agenda and other materials will be accessible through the calendar link on the blue navigation bar at http://www.epa.gov/casac/.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit relevant comments for a federal advisory committee to consider as it develops advice for EPA. Interested members of the public may submit relevant written or oral information on the topic of this advisory activity, and/or the group conducting the activity, for the CASAC to consider during the advisory process. Input from the public to the CASAC will have the most impact if it provides specific scientific or technical information or analysis for CASAC panels to consider or if it relates to the clarity or accuracy of the technical information. Members of the public wishing to provide comment should contact the DFO directly. Oral Statements: In general, individuals or groups requesting an oral presentation on a public teleconference will be limited to three minutes. Each person making an oral statement should consider providing written comments as well as their oral statement so that the points presented orally can be expanded upon in writing. Interested parties should contact Dr. Diana Wong, DFO, in writing (preferably via email) at the contact information noted above by June 4, 2014 to be placed on the list of public speakers. Written Statements: Written statements should be supplied to Dr. Diana Wong, DFO, via email at the contact information noted above by June 4, 2014 so that the information may be made available to the Panel members for their consideration. Written statements should be supplied in one of the following electronic formats: Adobe Acrobat PDF, MS Word, MS PowerPoint, or Rich Text files in IBM-PC/Windows 98/2000/XP format. It is the SAB Staff Office general policy to post written comments on the Web page for advisory meetings or teleconferences. Submitters are requested to provide an unsigned version of each document because the SAB Staff Office does not publish documents with signatures on its Web sites. Members of the public should be aware that their personal contact information, if included in any written comments, may be posted to the CASAC Web site. Copyrighted material will not be posted without explicit permission of the copyright holder.

Accessibility: For information on access or services for individuals with disabilities, please contact Dr. Diana Wong at (202) 564-2049 or wong.diana-M@epa.gov. To request accommodation of a disability, please contact Dr. Diana Wong preferably at least ten days prior to the teleconference to give EPA as much time as possible to process your request.

Dated: May 13, 2014.
Thomas H. Brennan,
Deputy Director, EPA Science Advisory Board Staff Office.

[FR Doc. 2014-12166 Filed 5-23-14; 8:45 am]

BILLING CODE 6560-50-P